ENVIRONMENTAL PROTECTION AGENCY

[FRL-6602-8]

Montrose Superfund Site and Palos Verde Site, Notice of Disclosure of Contractor Information That May Contain Confidential Business Information

AGENCY: Environmental Protection Agency (EPA).

ACTION: Notice of disclosure.

SUMMARY: Environmental Protection Agency (EPA) regulations provide that EPA may, in special circumstances, disclose business information, including confidential business information, “to the extent ordered by a Federal Court.” 40 CFR 2.209(d). EPA is currently engaged in litigation with the Potentially Responsible Parties (“PRPs”) in connection with the Montrose Superfund Site and the Palos Verdes Shelf Site in California. EPA intends to release to these parties documentation of EPA's past costs at the Montrose Superfund Site and the Palos Verdes Shelf Site. In accordance with EPA regulations, EPA has entered into a Stipulation and Protective Order with the PRPs in which the PRPs have stipulated that the documents released to them may contain CBI, and have agreed to specified procedures to maintain the confidentiality of such information. See 58 FR 460. EPA hereby gives notice to the following parties that EPA intends to disclose information in EPA's possession that may be confidential business information, under the protection of the above-mentioned Stipulation and Protective Order:

(1) Any subcontractor or temporary firm which has performed work for any the following contractors under the any of the following contracts or inter-agency agreements:

CH2M Hill (68-W9-0031); DynCorp/Viar & Company, Inc. (68-01-6702); ICF Technology, Inc. (68-D1-0135 & 68-01-7456); Lockheed Environmental Systems & Tech. (68-C0-0050); Ecology and Environment (68-W0-0037); Tech Law, Inc. (68-W0-001); Camp, Dresser & McKee (68-W9-6939); Roy F. Weston (68-01-6669); Alliance/GCA (68-01-6769); Jacobs Engineering (68-01-7351); Planning Research Corp./Tetra Tech EM Inc. (68-W9-0009); Armstrong Data Services, Inc.(68-W5-0024); Labat-Anderson Incorporated (68-W4-0028 & 68-W9-0052); Science Application International Corp. (68-W4-0021); U.S. Army Corps of Engineers (DW96955411, DW96955287 & DW96955258); U.S. Dept. of Commerce (NOAA); U.S. Dept. of Agriculture (DW12955106); U.S. Coast Guard (DW69955202); and U.S. Dept. of Health and Human Services (ATSDR):

(2) Other business entities that have done business with the above-listed contractors and who may have been listed in conflict of interest disclosures:

(3) Unsuccessful offerors to any of the above-mentioned contracts, including, but not limited to: Tetra Tech, Inc.; ICF Kaiser Engineers, Inc.; Roy F. Weston, Inc.; Jaffe, Trutanich, Scatena & Blum; PRC-EMI (Planning Research Corporation—Environmental Management, Inc.); Dalston Consulting, Inc.; Resource Applications, Inc.; and URS Consultants; and Bechtel Environmental, Inc.

AVAILABILITY: A copy of the Stipulation and Protective Order will be provided to the public upon request.

FOR FURTHER INFORMATION CONTACT: Elizabeth A. La Blanc, Assistant Regional Counsel, U.S. EPA, Region IX, 75 Hawthorne St., ORC-3 San Francisco, CA 94105; lablanc.elizabeth@ epamail.epa.gov; phone (415) 744-1364.

Dated: April 19, 2000.
Elizabeth La Blanc,
Assistant Regional Counsel, Region IX.

[FR Doc. 00-12018 Filed 5-11-00; 8:45 am]

BILLING CODE 6560-50-U